ENVIRONMENTAL PROTECTION AGENCY

[EPA-HQ-OPPT-2018-0611; FRL-12564-01-OMS]

Agency Information Collection Activities; Submission to the Office of Management and Budget for Review and Approval; Comment Request; Toxic Substances Control Act (TSCA) Existing Chemical Risk Evaluation and Management; Generic Information Collection Request for Interview and Focus Groups

AGENCY: Environmental Protection Agency (EPA).

ACTION: Notice.

SUMMARY: The Environmental Protection Agency (EPA) has submitted an information collection request (ICR), TSCA Existing Chemical Risk Evaluation and Management; Generic ICR for Interview and Focus Groups, (EPA ICR Number 2584.03 and OMB Control Number 2070-0219) to the Office of Management and Budget (OMB) for review and approval in accordance with the Paperwork Reduction Act. This is a proposed extension of the ICR, which is currently approved through February 28, 2025. Public comments were previously requested via the Federal Register on May 15, 2024. This notice allows for an additional 30 days for public comments.

DATES: Comments must be received on or before February 18, 2025.

ADDRESSES: Submit your comments to EPA, identified by docket identification (ID) number Docket ID No. EPA-HQ-OPPT-2018-0611, to EPA online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Office of Program Support (7602M), Office of Chemical Safety and Pollution Prevention, Environmental Protection Agency, 1200 Pennsylvania Ave. NW, Washington, DC 20460-0001; telephone number: (202) 566-1204; email address: sleasman.katherine@epa.gov.

SUPPLEMENTARY INFORMATION: This is a proposed extension of the ICR, which is approved through February 28, 2025. An agency may not conduct, or sponsor and a person is not required to respond to a collection of information unless it displays a currently valid OMB control number. Public comments were previously requested via the Federal Register on May 15, 2024, establishing a 60-day comment period (89 FR 42467). This notice allows for an additional 30 days for public comments. Supporting documents, which explain in detail the information collection activities and related estimated burden and costs that are summarized in this document, are available in the docket. The docket can be viewed online at https://www.regulations.gov or in person at the EPA Docket Center, WJC West, Room 3334, 1301 Constitution Ave. NW, Washington, DC. The telephone number for the Docket Center is 202-566-1744. Additional instructions on commenting and visiting the docket is available at https://www.epa.gov/dockets.

Abstract: Under this generic ICR, EPA may conduct interviews and focus groups of chemical users, processors, distributors, manufacturers (including importers), and recyclers, chemical waste handlers, consumers of chemical-containing products, employees who may be exposed to the chemical evaluated, state and local regulators, non-governmental organizations, industry experts, and knowledgeable members of the public (including potentially exposed or susceptible subpopulations) related to information collection for TSCA chemical risk evaluation and risk management. These information collection efforts are intended to supplement other reasonably available information on chemicals in commerce and will provide support for the Agency's activities regarding existing chemicals under TSCA section 6.

Data collected under this generic clearance may be used in several ways during the risk evaluation and risk management processes, including establishing generic scenarios, developing models of various conditions of use of chemicals evaluated under TSCA or their alternatives, pretesting survey questions, and providing important context for publicly available information already available to EPA. By learning more about the conditions of use, hazards, exposures, potentially exposed or susceptible subpopulations, health and environmental effects, benefits, reasonably ascertainable economic consequences, alternatives, and other information for chemicals being evaluated or regulated, EPA would be able to more precisely and effectively carry out its risk evaluation and risk management obligations under TSCA.

Form number(s): None.

Respondents/affected entities: Entities potentially affected by this ICR include chemical manufacturers (including importers), chemical users (including government agencies), processors, distributors, product manufacturers, recyclers, chemical waste handlers, consumers, employees, and others with important information about the chemical being evaluated or considered for risk management under TSCA. North American Industrial Classification System (NAICS) codes identified in question 12 of the ICR.

Respondent's obligation to respond: Voluntary.

Estimated number of potential respondents: 85.

Frequency of response: On occasion.

Total estimated burden: 950 hours. Burden is defined at 5 CFR 1320.3(b).

Total estimated costs: $ 83,229, includes $0 annualized capital investment or maintenance and operational costs.

Changes in the estimates: There are no changes to the burden hours currently approved by OMB.

Courtney Kerwin,
Director, Information Engagement Division.

[FR Doc. 2025-01109 Filed 1-16-25; 8:45 am]

BILLING CODE 6560-50-P